DEPARTMENT OF HEALTH AND HUMAN SERVICES

Centers for Disease Control and Prevention

Advisory Committee to the Director (ACD), Centers for Disease Control (CDC) and Prevention—Ethics Subcommittee (ES)

In accordance with section 10(a)(2) of the Federal Advisory Committee Act (Pub. L. 92-463), the Centers for Disease Control and Prevention (CDC) announces the following meeting of the aforementioned subcommittee:

Times and Dates:

3 p.m.-4 p.m., February 18, 2010.

8:30 a.m.-12:30 p.m., February 19, 2010.

Place: CDC, Thomas R. Harkin Global Communication Center, Auditorium B-3, 1600 Clifton Road NE., Atlanta, Georgia 30333. This meeting is also available by teleconference. Please dial (877) 928-1204 and enter code 4305992.

Status: Open to the public, limited only by the space available. The meeting room accommodates approximately 60 people. To accommodate public participation in the meeting, a conference telephone line will also be available. The public is welcome to participate during the public comment periods. The public comment periods are tentatively scheduled for 4 p.m.-4:15 p.m. on February 18, 2010 and 12 p.m.-12:15 p.m. on February 19, 2010.

Purpose: The ES provides counsel to the ACD, CDC, regarding a broad range of public health ethics questions and issues arising from programs, scientists, and practitioners.

Matter to be Discussed: Agenda items will include the following topics: status of ongoing ES activities; review of the CDC Director's organizational improvement activities; review of the Director's priorities; and discussion of the future direction for the ES. The agenda is subject to change as priorities dictate.

Contact Person for More Information: Drue Barrett, Ph.D., Designated Federal Officer, ACD, CDC-ES, 1600 Clifton Road, NE., M/S D-50, Atlanta, Georgia 30333. Telephone: (404) 639-4690. E-mail: dbarrett@cdc.gov. The deadline for notification of attendance is February 12, 2010.

The Director, Management Analysis and Services Office, has been delegated the authority to sign Federal Register notices pertaining to announcements of meetings and other committee management activities, for both the Centers for Disease Control and Prevention and the Agency for Toxic Substances and Disease Registry.

Dated: January 25, 2010.
Elaine L. Baker,
Director, Management Analysis and Services Office, Centers for Disease Control and Prevention.

[FR Doc. 2010-1811 Filed 1-28-10; 8:45 am]

BILLING CODE 4163-18-P